DEPARTMENT OF TRANSPORTATION

Surface Transportation Board

[STB Finance Docket No. 34214]

Wallowa County, Oregon—Acquisition and Operation Exemption—Rail Line of Idaho Northern & Pacific Railroad Company Between Elgin and Joseph, OR

Wallowa County, Oregon (the County), a noncarrier, has filed a notice of exemption under 49 CFR 1150.31 to acquire and operate a 62.58-mile line of railroad of Idaho Northern & Pacific Railroad Company (INPR) extending between milepost 21.0 at or near Elgin and milepost 83.58 at or near Joseph in Wallowa and Union Counties, OR (Joseph rail line or the line).¹

¹ In Idaho Northern & Pacific Railroad Company—Abandonment Exemption—in Wallowa and Union Counties, OR, Docket No. AB-433X (STB served Mar. 12, 1997) (March 12, 1997 decision), the Board granted a petition for exemption under former 49 U.S.C. 10505 from the prior approval requirements of former 49 U.S.C. 10903 et seq. for INPR to abandon a 60.58-mile portion (all but 2 miles) of its Joseph rail line, between milepost 23.0 near Elgin and milepost 83.58 at Joseph, in Wallowa and Union Counties, OR, subject to certain conditions (largely relating to environmental concerns in connection with salvage activities) and provided that the exemption would become effective on April 17, 1997. In a decision served in this proceeding on December 13, 2001, the Board substituted a modified environmental condition for the conditions imposed in the March 12, 1997 decision. The County states that INPR has not consummated abandonment of any part of the Joseph rail line.

According to the County, an agreement has been reached between the County and INPR regarding sale and operation of the rail line.² The County certifies that its projected annual revenues as a result of this transaction do not exceed those that would qualify it as a Class III rail carrier, and that such revenues will not exceed $5 million annually.

² The County states that INPR will operate the line until the later of: (1) 90 days after full payment of the purchase price; or (2) the designation and qualification of a new operator. The County will have a residual common carrier obligation to operate the line. The County states that no new authority is needed for INPR to operate the line because INPR never exercised the authority granted by the Board for it to abandon or discontinue service over the described 60.58-mile portion of the Joseph rail line.

The transaction was scheduled to be consummated on or shortly after May 31, 2002 (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34214, must be filed with the Surface Transportation Board, Case Control Unit, 1925 K Street, NW., Washington, DC 20423-0001. In addition, a copy of each pleading must be served on Thomas F. McFarland, P.C., 208 South LaSalle St., Suite 1890, Chicago, IL 60604-1194.

Board decisions and notices are available on our website at www.stb.dot.gov.

By the Board, David M. Konschnik, Director, Office of Proceedings.
Decided: June 7, 2002.
Vernon A. Williams,
Secretary.

[FR Doc. 02-15097 Filed 6-14-02; 8:45 am]

BILLING CODE 4915-00-P